SMALL BUSINESS ADMINISTRATION

Notice of Sale of Business and Disaster Assistance Loans

AGENCY: Small Business Administration.

ACTION: Notice of sale of Business and Disaster Assistance Loans—Loan Sale #6.

SUMMARY: This notice announces the intention of the Small Business Administration (SBA) to sell approximately 30,000 secured and unsecured business and disaster assistance loans, (collectively referred to as the Loans). The total unpaid principal balance of the Loans is approximately $690 million. This is the sixth sale of loans originated under the SBA's Business Loan Programs and the fifth sale of Disaster Assistance Loans (both business and home loans). SBA previously guaranteed some of the Loans under various sections of the Small Business Act, as amended, 15 U.S.C. 695 et seq.; however, any SBA guarantees have been paid and no SBA guaranty is available to the successful bidder in this sale. The majority of the Loans were originated and are serviced by SBA. The collateral for the secured Loans includes commercial and residential real estate and other business and personal property located nationwide. This notice also summarizes the bidding process for the Loans.

DATES: The Bidder Information Package is scheduled to be available to qualified bidders as of June 5, 2002. The Bid Date is scheduled for August 6, 2002, and closings are scheduled to occur between August 15 and August 31, 2002. These dates are subject to change at SBA's discretion.

ADDRESSES: Bidder Information Packages will be available from the SBA's Transaction Financial Advisor, Cushman & Wakefield, Inc. (C&W). Bidder Information Packages will only be made available to parties that have submitted a completed and executed Confidentiality Agreement and Bidder Qualification Statement and have demonstrated that they are qualified bidders. The Confidentiality Agreement and Bidder Qualification Statement are available on the SBA website at http://www.sba.gov/assets/current_sale/sale6.html or by calling the SBA Loan Sale #6 Center toll-free at (866) 822-6102. The completed and executed Confidentiality and Bidder Qualification Statement can be sent to the attention of Paul Badamo, SBA Loan Sale #6, by either fax, at (202) 293-9049, or by mail, to Cushman & Wakefield, 1801 K Street, NW, Suite 1100-L, Washington, DC 20006.

The Due Diligence Facility is scheduled to open on June 10, 2002 and will close on August 5, 2002. These dates are subject to change at SBA's discretion.

FOR FURTHER INFORMATION CONTACT: Mel O. Bradburn, Program Manager, Small Business Administration, 409 Third Street, SW, Washington, DC 20416: 202-205-2415. This is not a toll free number. Hearing or speech-impaired individuals may access this number via TDD/TTY by calling the Federal Information Relay Service's toll-free number at 1-800-877-8339.

SUPPLEMENTARY INFORMATION: SBA intends to sell approximately 30,000 secured and unsecured business and disaster assistance loans, collectively referred to as the “Loans”. The Loans include performing, sub-performing and non-performing loans. The Loans will be offered to qualified bidders in pools or blocks that will be based on such factors as performance status, collateral status, collateral type and geographic location of the collateral. A list of the Loans, loan pools, pool descriptions, blocks and block descriptions is contained in the Bidder Information Package. SBA will offer interested persons an opportunity to bid competitively on loan pools and/or blocks, subject to conditions set forth in the Bidder Information Package. SBA shall use its sole discretion to evaluate and determine winning bids. No loans will be sold individually. The Loans to be sold are located throughout the United States as well as Puerto Rico and the U.S. Virgin Islands.

The Bidding Process: To ensure a uniform and fair competitive bidding process, the terms of sale are not subject to negotiation. SBA will describe in detail the procedure for bidding on the Loans in the Bidder Information Package, which will include a non-negotiable loan sale agreement prepared by SBA (“Loan Sale Agreement”), specific bid instructions, as well as pertinent loan pool and block information such as total outstanding unpaid principal balance, interest rate, maturity term, aggregate payment history and collateral information including geographic location and type. The Bidder Information Package also includes CDs that contain information pertaining to the Loans.

The Bidder Information Package will be available approximately 9 weeks prior to the Bid Date. It contains procedures for obtaining supplemental information about the Loans. Any interested party may request a copy of the Bidder Information Package by sending a written request together with a duly executed Confidentiality Agreement and a Bidder Qualification Statement to the address specified in the ADDRESSES section of this notice.

Prior to the Bid Date, a Bidder Information Package Supplement will be mailed to all recipients of the original Bidder Information Package. It will contain the final list of loans included in Sale #6 and any final instructions for the sale.

Deposit and Liquidated Damages: Each bidder must submit a deposit as specified in the Bidder Information Package. If a successful bidder fails to close within the time period specified in the Loan Sale Agreement, SBA will retain the deposit as liquidated damages.

Due Diligence Facility: The bidder due diligence period begins on June 10, 2002. During the bidder due diligence period, qualified bidders may, for a non-refundable assessment of $1,000 US dollars, review all asset file documents that have been imaged onto a database by visiting the due diligence facility located at 499 South Capital Street, SW, Suite 300; Washington, DC 20003 and/or via remote access as well as receive the due diligence CDs. Bidders may request only the due diligence CDs that contain substantial due diligence materials such as loan payment history and updated third party reports and visit the due diligence facility for a non-refundable assessment of $500 US dollars.

Specific instructions for ordering information in electronic format or making an appointment to visit the due diligence facility are included in the Bidder Information Package and on the SBA website (http://www.sba.gov/assets/current_sale/sale6.html).

SBA Reservation of Rights: SBA reserves the right to add or remove loans from the sale as set forth in the Bidder Information Package.

SBA also reserves the right to terminate this sale in whole or in part at any time.

SBA reserves the right to use its sole discretion to evaluate and determine winning bids. SBA also reserves the right in its sole discretion and for any reason whatsoever to reject any and all bids.

SBA reserves the right to conduct a “best and final” round of bidding in which bidders will be given the opportunity to increase their bids. A best and final round shall not be construed as a rejection of any bid or preclude SBA from accepting any bid made by a bidder.

Ineligible Bidders: The following individuals and entities (either alone or in combination with others) are ineligible to bid on the Loans included in the sale:

(1) Any employee of SBA, any member of any such employee's household and any entity controlled by a SBA employee or by a member of such employee's household.

(2) Any individual or entity that is debarred or suspended from doing business with SBA or any other agency of the United States Government.

(3) Any contractor, subcontractor, consultant, and/or advisor (including any agent, employee, partner, director, principal, or affiliate of any of the foregoing) who will perform or has performed services for, or on-behalf of SBA in connection with the Loans, this sale or the development of SBA's loan sale program.

(4) Any individual that was an employee, partner, director, agent or principal of any entity, or individual described in paragraph (3) above at any time during which the entity or individual performed services for, or on behalf of SBA in connection with the Loans, this sale or the development of SBA's loan sale program.

(5) Any individual or entity that has used or will use the services, directly or indirectly, of any person or entity ineligible under any of paragraphs (1) through (4) above to assist in the preparation of any bid in connection with this sale.

Loan Sale Procedure: SBA will use a competitive online block auction process as the method to sell the majority of the Loans. SBA will offer certain pools of Loans in an online designated loan pool auction format. SBA believes a competitive bid auction sale optimizes the return on the sale of loans and attracts the largest field of interested parties. A competitive bid auction also provides the quickest and most efficient vehicle for SBA to dispose of the Loans.

Post Sale Servicing Requirements: The Loans will be sold servicing released. Purchasers of the Loans and their successors and assigns will be required to service the Loans in accordance with the applicable provisions of the Loan Sale Agreement for the life of the Loans. In addition, the Loan Sale Agreement establishes certain requirements that a servicer must satisfy in order to service the Loans.

Scope of Notice: This notice applies to Loan Sale #6 and does not establish agency procedures and policies for other loan sales. If there are any conflicts between the Bidder Information Package and this Notice, the Bidder Information Package shall prevail.

Dated: May 30, 2002.
LeAnn M. Oliver,
Acting Associate Administrator for Financial Assistance.

[FR Doc. 02-14245 Filed 6-6-02; 8:45 am]

BILLING CODE 8025-01-P